DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project “Medical Expenditure Panel Survey (MEPS) Household Component and the MEPS Medical Provider Component.”

This proposed information collection was previously published in the Federal Register on June 4, 2018 and allowed 60 days for public comment. AHRQ did not receive substantive comments from members of the public. The purpose of this notice is to allow an additional 30 days for public comment.

DATES: Comments on this notice must be received by October 4, 2018.

ADDRESSES: Written comments should be submitted to: AHRQ's OMB Desk Officer by fax at (202) 395-6974 (attention: AHRQ's desk officer) or by email at OIRA_submission@omb.eop.gov (attention: AHRQ's desk officer).

FOR FURTHER INFORMATION CONTACT: Doris Lefkowitz, AHRQ Reports Clearance Officer, (301) 427-1477, or by email at doris.lefkowitz@AHRQ.hhs.gov.

SUPPLEMENTARY INFORMATION:

Proposed Project

Medical Expenditure Panel Survey (MEPS) Household Component (HC)

In accordance with the Paperwork Reduction Act, 44 U.S.C. 3501-3521, AHRQ invites the public the comment on this proposed information collection. For over thirty years, results from the MEPS and its predecessor surveys (the 1977 National Medical Care Expenditure Survey, the 1980 National Medical Care Utilization and Expenditure Survey and the 1987 National Medical Expenditure Survey) have been used by OMB, DHHS, Congress and a wide number of health services researchers to analyze health care use, expenses and health policy.

Major changes continue to take place in the health care delivery system. The MEPS is needed to provide information about the current state of the health care system as well as to track changes over time. The MEPS permits annual estimates of use of health care and expenditures and sources of payment for that health care. It also permits tracking individual change in employment, income, health insurance and health status over two years. The use of the NHIS as a sampling frame expands the MEPS analytic capacity by providing another data point for comparisons over time.

Households selected for participation in the MEPS-HC are interviewed five times in person. These rounds of interviewing are spaced about 5 months apart. The interview will take place with a family respondent who will report for him/herself and for other family members.

The MEPS-HC has the following goal:

To provide nationally representative estimates for the U.S. civilian noninstitutionalized population for:

○ Health care use, expenditures, sources of payment

○ health insurance coverage

Medical Expenditure Panel Survey (MEPS) Medical Provider Component (MPC)

The MEPS-MPC will contact medical providers (hospitals, physicians, home health agencies and institutions) identified by household respondents in the MEPS-HC as sources of medical care for the time period covered by the interview, and all pharmacies providing prescription drugs to household members during the covered time period. The MEPS-MPC is not designed to yield national estimates as a stand-alone survey. The sample is designed to target the types of individuals and providers for whom household reported expenditure data was expected to be insufficient. For example, Medicaid enrollees are targeted for inclusion in the MEPS-MPC because this group is expected to have limited information about payments for their medical care.

The MEPS-MPC collects event level data about medical care received by sampled persons during the relevant time period. The data collected from medical providers include:

• Dates on which medical encounters during the reference period occurred

• Data on the medical content of each encounter, including ICD-10 codes

• Data on the charges associated with each encounter, the sources paying for the medical care-including the patient/family, public sources, and private insurance, and amounts paid by each source

Data collected from pharmacies include:

• Date of prescription fill

• National drug code (NDC) or prescription name, strength and form

• Quantity

• Payments, by source

The MEPS-MPC has the following goal:

• To serve as an imputation source for and to supplement/replace household reported expenditure and source of payment information. This data will supplement, replace and verify information provided by household respondents about the charges, payments, and sources of payment associated with specific health care encounters.

This study is being conducted by AHRQ through its contractors, Westat and RTI International, pursuant to AHRQ's statutory authority to conduct and support research on health care and on systems for the delivery of such care, including activities with respect to the cost and use of health care services and with respect to health statistics and surveys. 42 U.S.C. 299a(a)(3) and (8); 42 U.S.C. 299b-2.

Method of Collection

To achieve the goals of the MEPS-HC the following data collections are implemented:

1. Household Component Core Instrument. The core instrument collects data about persons in sample households. Topical areas asked in each round of interviewing include priority condition enumeration, health status, health care utilization including prescribed medicines, expenses and payments, employment, and health insurance. Other topical areas that are asked only once a year include access to care, income, assets, satisfaction with providers, and children's health. While many of the questions are asked about the entire reporting unit (RU), which is typically a family, only one person normally provides this information. All sections of the current core instrument are available on the AHRQ website at http://meps.ahrq.gov/mepsweb/survey_comp/survey_questionnaires.jsp.

2. Adult Self-Administered Questionnaire. A brief self-administered questionnaire (SAQ) will be used to collect self-reported (rather than through household proxy) on health opinions and satisfaction with health care, and information on health status, preventive care and health care quality measures for adults 18 and. The satisfaction with health care items are a subset of items from the Consumer Assessment of Healthcare Providers and Systems (CAHPS®). The health status items are from the Veterans Rand 12 item health survey (VR-12), a generic instrument developed with the support of the Department of Veterans Affairs and the Centers for Medicare and Medicaid Services. Additionally, there are questions addressing adult preventive care for both males and females. This questionnaire is revised from the previous OMB clearance.

3. Veteran SAQ. MEPS includes a new self-administered questionnaire for spring of 2019 data collection targeting the veteran population. The questionnaire asks questions in the following domains of interest: If a veteran is eligible for VA health care; if a Veteran is enrolled in VA health care; coordination of care in and out of the VA health care system, services provided to Veterans in and out of the VA health care system, and VA eligibility priority groups, for Veterans enrolled in VA health care and for Veterans eligible for VA health care. To assist in the correct identification of priority groups, the questionnaire may also include items assessing the following: Presence of service-connected disability; service-connected disability rating; presence of presumptive-conditions; timing and era of active duty; and VA receipt of disability compensation benefits. AHRQ worked with the Veteran Health Administration to develop the questionnaire content.

4. Diabetes Care SAQ. A brief self-administered paper-and-pencil questionnaire on the quality of diabetes care is administered once a year (during rounds 3 and 5) to persons identified as having diabetes. Included are questions about the number of times the respondent reported having a hemoglobin A1c blood test, whether the respondent reported having his or her feet checked for sores or irritations, whether the respondent reported having an eye exam in which the pupils were dilated, the last time the respondent had his or her blood cholesterol checked and whether the diabetes has caused kidney or eye problems. Respondents are also asked if their diabetes is being treated with diet, oral medications or insulin. This questionnaire is unchanged from the previous OMB clearance.

5. Authorization forms for the MEPS-MPC Provider and Pharmacy Survey. As in previous panels of the MEPS, we will ask respondents for authorization to obtain supplemental information from their medical providers (hospitals, physicians, home health agencies and institutions) and pharmacies.

6. MEPS Validation Interview. Each interviewer is required to have at least 15 percent of his/her caseload validated to insure that the computer assisted personal interview (CAPI) questionnaire content was asked appropriately and procedures followed, for example the use of show cards. Validation flags are set programmatically for cases pre-selected by data processing staff before each round of interviewing. Home office and field management may also request that other cases be validated throughout the field period. When an interviewer fails a validation their work is subject to 100 percent validation. Additionally, any case completed in less than 30 minutes is validated. A validation abstract form containing selected data collected in the CAPI interview is generated and used by the validator to guide the validation interview.

To achieve the goal of the MEPS-MPC the following data collections are implemented:

1. MPC Contact Guide/Screening Call. An initial screening call is placed to determine the type of facility, whether the practice or facility is in scope for the MEPS-MPC, the appropriate MEPS-MPC respondent and some details about the organization and availability of medical records and billing at the practice/facility. All hospitals, physician offices, home health agencies, institutions and pharmacies are screened by telephone. A unique screening instrument is used for each of these seven provider types in the MEPS-MPC, except for the two home care provider types which use the same screening form.

2. Home Care Provider Questionnaire for Health Care Providers. This questionnaire is used to collect data from home health care agencies which provide medical care services to household respondents. Information collected includes type of personnel providing care, hours or visits provided per month, and the charges and payments for services received. Some HMOs may be included in this provider type.

3. Home Care Provider Questionnaire for Non-Health Care Providers. This questionnaire is used to collect information about services provided in the home by non-health care workers to household respondents because of a medical condition; for example, cleaning or yard work, transportation, shopping, or child care.

4. Medical Event Questionnaire for Office-Based Providers. This questionnaire is for office-based physicians, including doctors of medicine (MDs) and osteopathy (DOs), as well as providers practicing under the direction or supervision of an MD or DO (e.g., physician assistants and nurse practitioners working in clinics). Providers of care in private offices as well as staff model HMOs are included.

5. Medical Event Questionnaire for Separately Billing Doctors. This questionnaire collects information from physicians identified by hospitals (during the Hospital Event data collection) as providing care to sampled persons during the course of inpatient, outpatient department or emergency room care, but who bill separately from the hospital.

6. Hospital Event Questionnaire. This questionnaire is used to collect information about hospital events, including inpatient stays, outpatient department, and emergency room visits. Hospital data are collected not only from the billing department, but from medical records and administrative records departments as well. Medical records departments are contacted to determine the names of all the doctors who treated the patient during a stay or visit. In many cases, the hospital administrative office also has to be contacted to determine whether the doctors identified by medical records billed separately from the hospital; doctors that do bill separately from the hospital will be contacted as part of the Medical Event Questionnaire for Separately Billing Doctors. HMOs are included in this provider type.

7. Institutions Event Questionnaire. This questionnaire is used to collect information about institution events, including nursing homes, rehabilitation facilities and skilled nursing facilities. Institution data are collected not only from the billing department, but from medical records and administrative records departments as well. Medical records departments are contacted to determine the names of all the doctors who treated the patient during a stay. In many cases, the institution's administrative office also has to be contacted to determine whether the doctors identified by medical records billed separately from the institution itself. Some HMOs may be included in this provider type.

8. Pharmacy Data Collection Questionnaire. This questionnaire requests the NDC and when that is not available the prescription name, strength and form as well as the date prescription was filled, payments by source, the quantity, and person for whom the prescription was filled. When the NDC is available, we do not ask for prescription name, strength or form because that information is embedded in the NDC; this reduces burden on the respondent. Most pharmacies have the requested information available in electronic format and respond by providing a computer generated printout of the patient's prescription information. If the computerized form is unavailable, the pharmacy can report their data to a telephone interviewer. Pharmacies are also able to provide a CD-ROM with the requested information if that is preferred. HMOs are included in this provider type.

Dentists, optometrists, psychologists, podiatrists, chiropractors, and others not providing care under the supervision of a MD or DO are considered out of scope for the MEPS-MPC.

Estimated Annual Respondent Burden

Exhibit 1 shows the estimated annualized burden hours for the respondents' time to participate in the MEPS-HC and the MEPS-MPC.

The MEPS-HC Core Interview will be completed by 13,338* (see note below Exhibit 1) “family level” respondents, also referred to as RU respondents. Since the MEPS-HC consists of 5 rounds of interviewing covering a full two years of data, the annual average number of responses per respondent is 2.5 responses per year. The MEPS-HC core requires an average response time of 92 minutes to administer. The Adult Female SAQ will be completed once a year by each female person in the RU that is 18 years old and older, an estimated 12,984 persons. The Adult Male SAQ will be completed once a year by each male person in the RU that is 18 years old and older, an estimated 11,985 persons. The Adult SAQs each require an average of 7 minutes to complete. The Diabetes care SAQ will be completed once a year by each person in the RU identified as having diabetes, an estimated 2,072 persons, and takes about 3 minutes to complete. The Veteran SAQ will be completed once by each in-scope person who is a veteran of the U.S. military identified in the Round 1, Panel 23 interview, an estimated 1,350 persons. The Veteran SAQ requires an average of 15 minutes to complete. The authorization form for the MEPS-MPC Provider Survey will be completed once for each medical provider seen by any RU member. The 12,804 RUs in the MEPS-HC will complete an average of 5.4 forms, which require about 3 minutes each to complete. The authorization form for the MEPS-MPC Pharmacy Survey will be completed once for each pharmacy for any RU member who has obtained a prescription medication. RUs will complete an average of 3.1 forms, which take about 3 minutes to complete. About one third of all interviewed RUs will complete a validation interview as part of the MEPS-HC quality control, which takes an average of 5 minutes to complete. The total annual burden hours for the MEPS-HC are estimated to be 60,278 hours.

All medical providers and pharmacies included in the MEPS-MPC will receive a screening call and the MEPS-MPC uses 7 different questionnaires; 6 for medical providers and 1 for pharmacies. Each questionnaire is relatively short and requires 2 to 19 minutes to complete. The total annual burden hours for the MEPS-MPC are estimated to be 17,388 hours. The total annual burden for the MEPS-HC and MPC is estimated to be 77,666 hours.

Exhibit 1—Estimated Annualized Burden Hours
Form name | Number of respondents | Number of responses per respondent | Hours per response | Total burden hours
MEPS-HC
MEPS-HC Core Interview | * 13,338 | 2.5 | 92/60 | 51,129
Adult Female SAQ | 12,984 | 1 | 7/60 | 1,515
Adult Male SAQ | 11,985 | 1 | 7/60 | 1,398
Diabetes care SAQ | 2,072 | 1 | 3/60 | 104
Veteran SAQ | 1,350 | 1 | 15/60 | 338
Authorization form for the MEPS-MPC Provider Survey | 12,804 | 5.4 | 3/60 | 3,457
Authorization form for the MEPS-MPC Pharmacy Survey | 12,804 | 3.1 | 3/60 | 1,985
MEPS-HC Validation Interview | 4,225 | 1 | 5/60 | 352
Subtotal for the MEPS-HC | 71,562 | na | na | 60,278
MEPS-MPC
MPC Contact Guide/Screening Call ** | 36,598 | 1 | 2/60 | 1,220
Home care for health care providers questionnaire | 635 | 1.53 | 9/60 | 146
Home care for non-health care providers questionnaire | 11 | 1 | 11/60 | 2
Office-based providers questionnaire | 11,210 | 1.65 | 10/60 | 3,083
Separately billing doctors questionnaire | 12,397 | 3.46 | 13/60 | 9,294
Hospitals questionnaire | 5,310 | 3.26 | 9/60 | 2,597
Institutions (non-hospital) questionnaire | 116 | 2.05 | 9/60 | 36
Pharmacies questionnaire | 6,919 | 2.92 | 3/60 | 1,010
Subtotal for the MEPS-MPC | 73,196 | na | na | 17,388
Grand Total | 144,758 | na | na | 77,666
* While the expected number of responding units for the annual estimates is 12,804, it is necessary to adjust for survey attrition of initial respondents by a factor of 0.96 (13,338 = 12,804/0.96).
** There are 6 different contact guides; one for office based, separately billing doctor, hospital, institution, and pharmacy provider types, and the two home care provider types use the same contact guide.

Exhibit 2 shows the estimated annual cost burden associated with the respondents' time to participate in this information collection. The annual cost burden for the MEPS-HC is estimated to be $1,467,167; the annual cost burden for the MEPS-MPC is estimated to be $298,580. The total annual cost burden for the MEPS-HC and MPC is estimated to be $1,765,746.

Exhibit 2—Estimated Annualized Cost Burden
Form name | Number of respondents | Total burden hours | Average hourly wage rate | Total cost burden
MEPS-HC
MEPS-HC Core Interview | 13,338 | 51,129 | * $24.34 | $1,244,480
Adult Female SAQ | 12,984 | 1,515 | * 24.34 | 36,875
Adult Male SAQ | 11,985 | 1,398 | * 24.34 | 34,027
Diabetes care SAQ | 2,072 | 104 | * 24.34 | 2,531
Veteran SAQ | 1,350 | 338 | * 24.34 | 8,227
Authorization forms for the MEPS-MPC Provider Survey | 12,804 | 3,457 | * 24.34 | 84,143
Authorization form for the MEPS-MPC Pharmacy Survey | 12,804 | 1,985 | * 24.34 | 48,315
MEPS-HC Validation Interview | 4,225 | 352 | * 24.34 | 8,568
Subtotal for the MEPS-HC | 71,562 | 60,278 | na | 1,467,167
MEPS-MPC
MPC Contact Guide/Screening Call | 36,598 | 1,220 | ** 17.25 | 21,045
Home care for health care providers questionnaire | 635 | 146 | ** 17.25 | 2,519
Home care for non-health care providers questionnaire | 11 | 2 | ** 17.25 | 35
Office-based providers questionnaire | 11,210 | 3,083 | ** 17.25 | 53,182
Separately billing doctors questionnaire | 12,397 | 9,294 | ** 17.25 | 160,322
Hospitals questionnaire | 5,310 | 2,597 | ** 17.25 | 44,798
Institutions (non-hospital) questionnaire | 116 | 36 | ** 17.25 | 621
Pharmacies questionnaire | 6,919 | 1,010 | *** 15.90 | 16,059
Subtotal for the MEPS-MPC | 73,196 | 17,388 | na | 298,580
Grand Total | 144,758 | 77,666 | na | 1,765,746
* Mean hourly wage for All Occupations (00-0000).
** Mean hourly wage for Medical Secretaries (43-6013).
*** Mean hourly wage for Pharmacy Technicians (29-2052).
Occupational Employment Statistics, May 2017 National Occupational Employment and Wage Estimates United States, U.S. Department of Labor, Bureau of Labor Statistics. https://www.bls.gov/oes/current/oes_nat.htm#b29-0000.

Request for Comments

In accordance with the Paperwork Reduction Act, comments on AHRQ's information collection are requested with regard to any of the following: (a) Whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Francis D. Chesley, Jr.,
Acting Deputy Director.

[FR Doc. 2018-19027 Filed 8-31-18; 8:45 am]

BILLING CODE 4160-90-P